DEPARTMENT OF TRANSPORTATION

Federal Aviation Administration

Fifth RTCA SC-235 Non Rechargeable Lithium Batteries Plenary Session

AGENCY: Federal Aviation Administration (FAA), U.S. Department of Transportation (DOT).

ACTION: Fifth RTCA SC-235 Non Rechargeable Lithium Batteries Plenary Session.

SUMMARY: The FAA is issuing this notice to advise the public of a meeting of Fifth RTCA SC-235 Non Rechargeable Lithium Batteries Plenary Session.

DATES: The meeting will be held November 15-16, 2016 09:00 a.m.-05:00 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Fifth RTCA SC-235 Non Rechargeable Lithium Batteries Plenary Session. The agenda will include the following:

Tuesday, November 15, 2016—9:00 a.m.-5:00 p.m.

1. Welcome and Administrative Remarks

2. Introductions

3. Agenda Review

4. Meeting-Minutes Review

5. FAA Tech Center Testing Update

6. Status Discussion of Internal Comment Review

7. Review of program schedule

8. Action Item Review

9. Any other Business

10. Date and Place of Next Meeting

11. Adjourn

Wednesday, November 16, 2016—9:00 a.m.-4:00 p.m.

Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 13, 2016.
Mohannad Dawoud,
Management & Program Analyst, Partnership Contracts Branch, ANG-A17, NextGen, Procurement Services Division, Federal Aviation Administration.

[FR Doc. 2016-25186 Filed 10-18-16; 8:45 am]

BILLING CODE 4910-13-P